DEPARTMENT OF COMMERCE

Bureau of Economic Analysis

BEA Customer Satisfaction Survey

ACTION: Proposed information collection; comment request.

SUMMARY: The U.S. Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Interested persons are invited to submit comments on or before February 13, 2004.

ADDRESSES: Direct all written comments to Diana Hynek, Departmental Forms Clearance Officer, Department of Commerce, Room 6625, 14th and Constitution Avenue, NW., Washington, DC 20230.

FOR FURTHER INFORMATION CONTACT: Requests for additional information or copies of the information collection instrument and instructions should be directed to: Vanessa Clark, U.S. Department of Commerce, Bureau of Economic Analysis, BE-53, Washington, DC 20230, or by telephone at 202-606-9697.

SUPPLEMENTARY INFORMATION:

I. Abstract

As one of the nation's leading statistical agencies, the Bureau of Economic Analysis (BEA) provides reliable and consistent measures of economic activity that are essential to intelligent decision making of business people and policy makers and to the efficient operations of financial markets. The purpose of the BEA Customer Satisfaction Survey will be to obtain feedback from customers on the quality of BEA products and services. The results of the information collected will serve to assist BEA in improving the quality of its data products and its methods of dissemination.

II. Method of Collection

The survey and a cover letter with instructions on how to complete the survey will be mailed to about 5,000 potential respondents, BEA will request that responses be returned 30 days after the mailing. It will also reside on BEA's Web site for 2,000 potential respondents. The survey will be designed so that all responses are anonymous and therefore eliminates the necessity for record keeping of respondents.

III. Data

OMB Number: 0691-0001.

Type of Review: Reinstatement, without change of a previously approved collection.

Affected Public: Individuals from profit and non-profit organizations and individuals from other Federal, State, and local government agencies.

Estimated Number of Respondents: 500.

Estimated Response Time: 15 minutes.

Estimated Total Annual Burden Hours: 125.

Estimated Total Annual Cost: The only cost to the respondents is that of their time.

Legal Authority: Executive Order 12862, section 1(b), of September 11, 1993.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will be come a matter of public record.

Dated: December 9, 2003.
Madeleine Clayton,
Management Analyst, Office of the Chief Information Officer.

[FR Doc. 03-30845 Filed 12-12-03; 8:45 am]

BILLING CODE 3510-06-P